FEDERAL COMMUNICATIONS COMMISSION

47 CFR Part 73

[DA 03-3337; MM Docket No. 01-255; RM-10265]

Radio Broadcasting Services; Wright City, OK

AGENCY: Federal Communications Commission.

ACTION: Final rule.

SUMMARY: In response to a Notice of Proposed Rule Making, 66 FR 52733 (October 17, 2001), this Report and Order allots Channel 226A to Wright City, Oklahoma, and provides Wright City with its first local aural transmission service. This document dismisses as unacceptable for consideration a counterproposal filed by Entravision Holdings, LLC, the licensee of Station KTCY(FM), Pilot Point, Texas, proposing to, inter alia, upgrade its Channel 285C1 at Station KTCY to Channel 285C0. This document also dismisses a counterproposal filed by Radio One Licenses, Inc. The coordinates for Channel 226A at Wright City are 34-05-58 North Latitude and 94-58-34 West Longitude. This allotment has a site restriction of 5.0 kilometers northeast of Wright City.

DATES: Effective December 8, 2003.

FOR FURTHER INFORMATION CONTACT: R. Barthen Gorman, Media Bureau, (202) 418-2180.

SUPPLEMENTARY INFORMATION: This is a synopsis of the Commission's Report and Order, MM Docket No. 01-255, adopted October 22, 2003, and released October 24, 2003. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202 863-2893, facsimile 202 863-2898, or via e-mail qualexint@aol.com.

List of Subjects in 47 CFR Part 73

Radio, Radio broadcasting.

Part 73 of title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under Oklahoma, is amended by adding Wright City, Channel 226A.

Federal Communications Commission.
John A. Karousos,
Assistant Chief, Audio Division, Media Bureau.

[FR Doc. 03-27825 Filed 11-4-03; 8:45 am]

BILLING CODE 6712-01-P